DEPARTMENT OF ENERGY

International Energy Agency Meetings

AGENCY: Department of Energy.

ACTION: Notice of meetings.

SUMMARY: The Industry Advisory Board (IAB) to the International Energy Agency (IEA) will meet on November 19, 2025, and November 20, 2025, as a hybrid meeting via webinar and in person, in connection with a joint meeting of the IEA's Standing Group on Emergency Questions (SEQ) and the IEA's Standing Group on the Oil Market (SOM) which is scheduled at the same time via webinar and in person.

DATES: November 19, 2025, and November 20, 2025.

ADDRESSES: The location details of the SEQ and SOM webinar meeting are under the control of the IEA Secretariat, located at 9 rue de la Fédération, 75015 Paris, France. The in-person meeting will take place at IEA Headquarters, 9 rue de la Fédération, 75015 Paris, France.

FOR FURTHER INFORMATION CONTACT: Mr. Matthew Zogby, Attorney Advisor in the Office of the Assistant General Counsel for International and National Security Programs, Department of Energy, 1000 Independence Avenue SW, Washington, DC 20585, (202) 586-5000, matthew.zogby@hq.doe.gov.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held in person and via webinar at the IEA Headquarters, 9 rue de la Fédération, 75015 Paris, commencing at 9:30 a.m., Paris time, on November 19, 2025. The purpose of this notice is to permit attendance by representatives of U.S. company members of the IAB at a joint meeting of the IEA's Standing Group on Emergency Questions (SEQ) and the IEA's Standing Group on the Oil Market (SOM), which is scheduled to be held at the same location in person and via webinar at the same time.

The agenda of the meeting is under the control of the SEQ and the SOM. It is expected that the SEQ and the SOM will adopt the following agenda.

1. Adoption of the Agenda

2. Approval of Summary Record of meeting of 25 June 2025

3. Update on the Current Oil Market Situation

4. Reports on Recent Oil Market and Policy Developments in IEA and Association member countries

5. Russian Oil Market Developments

6. Update on Recent Oil Trade Developments

7. Chinese Strategic and Commercial Oil Stocks Trends

8. Global Oil Storage Developments

9. The Implications of Oil and Gas Field Decline Rates

10. World Energy Outlook

11. IOC Outlooks

12. Impact of Changes to MENA Power Structure on Oil Demand

13. Sustainable Fuels

14. Any other business:

Date of next SOM/SEQ meetings:

—25-26 March 2026

—17-18 June 2026

—18-19 November 2026 (ERE2026 17-18 November)

A meeting of the Industry Advisory Board (IAB) to the International Energy Agency (IEA) will be held in person and via webinar at the IEA Headquarters, 9 rue de la Fédération, 75015 Paris, commencing at 9:30 a.m., Paris time, on November 20, 2025. The purpose of this notice is to permit attendance by representatives of U.S. company members of the IAB at a meeting of the IEA's Standing Group on Emergency Questions (SEQ), which is scheduled to be held at the same location in person and via webinar at the same time. The IAB will also hold an online preparatory meeting among company representatives at 2 p.m. Paris time on November 13, 2025. The agenda for this preparatory meeting is to review the agenda for the SEQ meeting.

The agenda of the SEQ meeting is under the control of the SEQ. It is expected that the SEQ will adopt the following agenda:

Closed SEQ Session—IEA Member Countries Only

1. Adoption of the Agenda

2. Approval of the Summary Record of 26 June 2025 SEQ meeting

3. Stockholding Levels of IEA Member Countries

4. SEQ and SOM—initial considerations of 3-year strategy paper

Open SEQ Session—Open to Association Countries

5. Emergency and Security Review (ESR) of Türkiye

6. Mid-Term Review update from Finland

7. Emergency and Security Review (ESR) of Czechia

8. Update on Emergency and Security Work with Non-Member Countries

9. Update on Ongoing Work on Thailand

10. Update on Ongoing Work on Electricity Security

11. ERE2026 Planning

Closed SEQ Session—IEA Member Countries Only

12. Colombia Accession Review

13. Update on Ongoing Work on Natural Gas Security

14. Industry Advisory Board Update

15. Proposal for updating survey on maximum drawdown rates of public stocks and storage capacities

16. Any Other Business

Schedule of ESRs for 2025/26

Schedule of SEQ & SOM Meetings:

—25-26 March 2026

—17-18 June 2026

—17-19 November 2026 (including ERE2026)

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on November 8, 2025, by William T. Joyce, Acting Assistant Secretary, Office of International Affairs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 10, 2025.
Jennifer Hartzell,
Alternate Federal Register Liaison Officer, U.S. Department of Energy.

[FR Doc. 2025-19877 Filed 11-12-25; 8:45 am]

BILLING CODE 6450-01-P